DEPARTMENT OF COMMERCE

National Oceanic and Atmospheric Administration

[I.D.050101E]

Endangered Species; Permit 1067

AGENCY: National Marine Fisheries Service (NMFS), National Oceanic and Atmospheric Administration (NOAA), Commerce.

ACTION: Receipt of application to modify permit 1067.

SUMMARY: Notice is hereby given of the following action regarding permits for takes of endangered and threatened species for the purposes of scientific research and/or enhancement. NMFS has received an application from California Department of Fish and Game, Sacramento, CA to modify permit 1067.

DATES: Comments or requests for a public hearing on any of the new applications or modification requests must be received at the appropriate address or fax number (see ADDRESSES) no later than 5 p.m. Pacific daylight time on June 11, 2001.

ADDRESSES: Written comments on any of the new applications or modification requests should be sent to Protected Resources Division, NMFS, 777 Sonoma Avenue, Room 325, Santa Rosa, CA 95404-6528. Comments may also be sent via fax to (707) 578-3435. Comments will not be accepted if submitted via e-mail or the Internet.

The application and related documents are available for review in the following office, by appointment: Office of Protected Resources, F/PR3, NMFS, 1315 East-West Highway, Silver Spring, MD 20910-3226 (301-713-1401).

FOR FURTHER INFORMATION CONTACT: Permits Coordinator, Protected Resources Division, (707-575-6053).

SUPPLEMENTARY INFORMATION:

Authority

Issuance of permits and permit modifications, as required by the Endangered Species Act of 1973 (16 U.S.C. 1531-1543) (ESA), is based on a finding that such permits/modifications are (1) applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice: Threatened Central California Coast (CCC) steelhead trout (Oncorhynchus mykiss), threatened (CCC) coho salmon (Oncorhynchus kisutch), threatened, California Coastal (CC) chinook salmon (Oncorhynchus tshawytscha).

Modification Requests Received

The California Department of Fish and Game (CDFG) requests a modification to permit 1067 for takes of adult and juvenile threatened CCC coho salmon (Oncorhynchus kisutch) associated with a proposal to develop a conservation hatchery program for coho salmon at the Congressman Don Clausen Fish Hatchery at Warm Springs Dam in Sonoma County, CA. The purpose of this program is to prevent extirpation of portions of the CCC coho salmon ESU by restoring lost or declining stocks and to provide a mechanism to conserve potential broodstock of CCC coho salmon. The overall goal of the program is to restore self-sustaining and self-regulating stocks of coho salmon to the CCC coho salmon ESU. Presently, permit 1067 authorizes intentional takes of adult and juvenile CCC coho salmon for research projects throughout the CCC coho salmon ESU. This requested modification would add additional intentional takes of adult and juvenile CCC coho salmon to the CDFG permit and include authorization to implement an enhancement program. These activities may also result in incidental takes of threatened CCC steelhead (O. mykiss) and threatened, California Coastal (CC) chinook salmon, (O. tshawytscha). This requested modification to permit 1067 would authorize intentional take of adult and juvenile CCC coho salmon and incidental take of CCC steelhead and CC chinook salmon. Permit 1067 expires on June 30, 2002.

Dated: May 4, 2001.
Chris Mobley,
Acting Chief, Endangered Species Division, Office of Protected Resources, National Marine Fisheries Service.

[FR Doc. 01-11841 Filed 5-9-01; 8:45 am]

BILLING CODE 3510-22-S